SECURITIES AND EXCHANGE COMMISSION

[Release No. 34-68881; File No. SR-ICC-2012-24]

Self-Regulatory Organizations; ICE Clear Credit LLC; Notice of Designation of a Longer Period for Commission Action on Proposed Rule Change To Add Rules Related to the Clearing of European Corporate Single-Name CDS

February 8, 2013.

On December 6, 2012, ICE Clear Credit LLC (“ICC”) filed with the Securities and Exchange Commission (“Commission”) the proposed rule change SR-ICC-2012-24 pursuant to Section 19(b)(1) of the Securities Exchange Act of 1934 (“Act”) ¹ and Rule 19b-4 thereunder.² The proposed rule change was published for comment in the Federal Register on December 26, 2012.³ The Commission did not receive comments on the proposal.

¹ 15 U.S.C. 78s(b)(1).

² 17 CFR 240.19b-4.

³ Securities Exchange Act Release No. 34-68482 (December 19, 2012), 77 FR 76156 (December 26, 2012).

Section 19(b)(2) of the Act ⁴ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day from the publication of notice of filing of this proposed rule change is February 9, 2013. The Commission is extending this 45-day time period.

⁴ 15 U.S.C. 78s(b)(2).

The proposed rule change relates to ICC's adoption of rules to permit the clearing of standard single-name CDS contracts referencing European corporate reference entities. The proposed rule change is novel because no clearing agency located in the United States currently provides clearing services for these products. As a result, and in order to provide the Commission with sufficient time to consider the proposed rule change, the Commission finds it is appropriate to designate a longer period within which to take action on the proposed rule change.

Accordingly, the Commission, pursuant to Section 19(b)(2) of the Act,⁵ designates March 26, 2013, as the date by which the Commission should either approve or disapprove, or institute proceedings to determine whether to disapprove, the proposed rule change (File No. SR-ICC-2012-24).

⁵ 15 U.S.C. 78s(b)(2).

For the Commission, by the Division of Trading and Markets, pursuant to delegated authority.⁶
⁶ 17 CFR 200.30-3(a)(31).
Kevin M. O'Neill,
Deputy Secretary.

[FR Doc. 2013-03409 Filed 2-13-13; 8:45 am]

BILLING CODE 8011-01-P